DEPARTMENT OF TRANSPORTATION

Federal Aviation Administration

14 CFR Part 71

[Docket No. FAA-2008-0187; Airspace Docket No. 07-ASO-27]

Proposed Modification of Area Navigation Route Q-110 and Jet Route J-73; Florida

AGENCY: Federal Aviation Administration (FAA), DOT.

ACTION: Notice of proposed rulemaking (NPRM).

SUMMARY: This action proposes to extend the length of Area Navigation (RNAV) route Q-110 and make a minor realignment of jet route J-73, in support of the Florida West Coast Airspace Redesign project. The extension of Q-110 would provide an RNAV route for use by aircraft transitioning between Miami Air Route Traffic Control Center (ARTCC) and Jacksonville ARTCC airspace. The extension would also assist aircraft in circumnavigating military airspace associated with the Avon Park Air Force Range. The realignment of J-73 would provide space for the Q-110 extension. The FAA is proposing this action to enhance the safe and the efficient use of the navigable airspace in the western Florida area.

DATES: Comments must be received on or before June 2, 2008.

ADDRESSES: Send comments on this proposal to the U.S. Department of Transportation, Docket Operations, M-30, 1200 New Jersey Avenue, SE., West Building, Ground Floor, Room W12-140, Washington, DC 20590-0001; telephone: (202) 366-9826. You must identify FAA Docket No. FAA-2008-0187 and Airspace Docket No. 07-ASO-27 at the beginning of your comments. You may also submit comments through the Internet at http://www.regulations.gov.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2008-0187 and Airspace Docket No. 07-ASO-27) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2008-0187 and Airspace Docket No. 07-ASO-27.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to extend RNAV route Q-110 and realign jet route J-73 in western Florida. Currently, Q-110 extends between the FEONA, GA, waypoint (WP) and the KPASA, FL, WP. This action would extend Q-110 southeastward from KPASA (located near Lakeland, FL) to the THNDR, FL, intersection (located about midway between Fort Myers and West Palm Beach, FL), adding approximately 115 NM to the length of the route. Two new waypoints (JAYMC and RVERO) would be established along Q-110 between KPASA and THNDR. The proposed extension of Q-110 would provide an RNAV route for use by aircraft transitioning between Miami ARTCC and Jacksonville ARTCC airspace and assist aircraft in circumnavigating military airspace associated with the Avon Park Air Force Range.

The FAA is also proposing to realign the existing segment of jet route J-73 between the LaBelle, FL, very high frequency omnidirectional range/tactical navigation aid (VORTAC) and the Lakeland, FL, VORTAC by inserting an intermediate point that would be formed by the intersection of the LaBelle 314° True (T) (313° Magnetic (M)) radial and the Lakeland 162° T (161° M) radial. Shifting J-73 in this manner would provide airspace to accommodate the Q-110 extension. The realignment of J-73 would slightly increase the distance along the segment of the route between the Lakeland VORTAC and the LaBelle VORTAC from the current 77 NM to 78 NM.

Additionally, the FAA intends to make an administrative change to the route description of Q-110 by reversing the order in which the points that make up the route are listed. This change is needed to comply with the FAA policy that the points in even numbered route descriptions be listed in a west-to-east format. The change would have no effect on the alignment or charting of the route.

These changes are proposed in support of the Florida West Coast Airspace Redesign project and to enhance the safe and efficient use of the navigable airspace in the western Florida area.

Jet routes are published in paragraph 2004, and low altitude RNAV routes are published in paragraph 2006, respectively, of FAA Order 7400.9R signed August 15, 2007 and effective September 15, 2007, which is incorporated by reference in 14 CFR 71.1. The jet route and RNAV route listed in this document will be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify a jet route and RNAV route in Florida.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.R, Airspace Designations and Reporting Points, signed August 15, 2006 and effective September 15, 2007, is amended as follows:

Paragraph 2004 Jet Routes.

* * * * *

J-73 [Amended]

From Dolphin, FL; LaBelle, FL; INT Labelle 314°(T)/313°(M) and Lakeland, FL, 162°(T)/161°(M) radials; Lakeland; Seminole, FL; La Grange, GA; Nashville, TN; Pocket City, IN; to Northbrook, IL.

* * * * *

Paragraph 2006 United States Area Navigation Routes.

* * * * *

Q-110 FEONA, GA to THNDR, FL [Amended]

FEONA, GA | WP | (Lat. 31°36′22″ N., long. 84°43′08″ W.)
GULFR, FL | WP | (Lat. 30°12′23″ N., long. 83°33′08″ W.)
BRUTS, FL | WP | (Lat. 29°30′58″ N., long. 82°58′57″ W.)
KPASA, FL | WP | (Lat. 28°10′34″ N., long. 81°54′27″ W.)
RVERO, FL | WP | (Lat. 27°24′35″ N., long. 81°35′57″ W.)
JAYMC, FL | WP | (Lat. 26°58′51″ N., long. 81°22′08″ W.)
THNDR, FL | INT | (Lat. 26°37′38″ N., long. 80°52′00″ W.)

* * * * *

Issued in Washington, DC, on April 8, 2008.
Stephen L. Rohring,
Acting Manager, Airspace and Rules Group.

[FR Doc. E8-8227 Filed 4-16-08; 8:45 am]

BILLING CODE 4910-13-P